ENVIRONMENTAL PROTECTION AGENCY

[FRL-7146-2]

Inventory of U.S. Greenhouse Gas Emissions and Sinks: 1990-2000

AGENCY: Environmental Protection Agency (EPA).

ACTION: Notice of documents availability and request for public comments.

SUMMARY: The Draft Inventory of U.S. Greenhouse Gas Emissions and Sinks: 1990-2000 is available for public review. Annual U.S. emissions for the period of time from 1990-2000 are summarized and presented by source category and sector. The inventory contains estimates of carbon dioxide (CO2), methane (CH4), nitrous oxide (N2O), hydrofluorocarbons (HFC), perflourocarbons (PFC), and sulfur hexaflouride (SF6) emissions. The inventory includes estimates of carbon sequestration in U.S. forests and, new this year, an updated assessment of emissions from the electric power industry. The technical approach used in this report to estimate emissions and sinks for greenhouse gases is consistent with the methodologies recommended by the Intergovernmental Panel on Climate Change (IPCC) and reported in a format consistent with the United Nations Framework Convention on Climate Change (UNFCCC) reporting guidelines. The Inventory of U.S. Greenhouse Gas Emissions and Sinks is the latest in a series of annual U.S. submissions to the Secretariat of the UNFCCC.

DATES: Comments must be submitted on or before March 25, 2002.

ADDRESSES: Comments should be submitted to Mr. Michael Gillenwater at: Environmental Protection Agency, Clean Air Markets Division (6204N), 1200 Pennsylvania Ave., NW., Washington, DC 20460, Fax: (202) 565-6673. You are welcome and encouraged to send an email with your comments to Gillenwater.Michael@epa.gov.

FOR FURTHER INFORMATION CONTACT: Mr. Michael Gillenwater, Environmental Protection Agency, Office of Air and Radiation, Office of Atmospheric Programs, Clean Air Markets Division, (202) 564-4092, Gillenwater.Michael@epa.gov.

SUPPLEMENTARY INFORMATION: The draft reports can be obtained by visiting the U.S. EPA's global warming site at http://www.epa.gov/globalwarming/publications/emissions/.

Dated: February 11, 2002.
Robert Brenner,
Acting Assistant Administrator, Office of Air and Radiation.

[FR Doc. 02-3772 Filed 2-15-02; 8:45 am]

BILLING CODE 6560-50-P